DEPARTMENT OF THE INTERIOR

Bureau of Land Management

[LLAZP01000.L12200000.EA0000; AZ-SRP-AZA-036683]

Notice of Temporary Closure of Public Lands in Maricopa County, AZ

AGENCY: Bureau of Land Management, Interior.

ACTION: Notice of temporary closure.

SUMMARY: Notice is hereby given that a temporary closure will be in effect on public lands administered by the Bureau of Land Management (BLM), Hassayampa Field Office, during the Vulture Mine Off-Road Challenge officially permitted off-highway vehicle (OHV) race event.

DATES: The temporary closure will be in effect from 2 p.m., January 17, 2020, through 10 p.m., January 19, 2020, Mountain Standard Time.

ADDRESSES: This temporary closure or restriction order will be posted in the Phoenix District Office, 21605 North 7th Avenue, Phoenix, AZ 85027. Maps of the affected area and other documents associated with this temporary closure are available at Hassayampa Field Office, which is located at the same address as the Phoenix District Office.

FOR FURTHER INFORMATION CONTACT: John (Jake) Szympruch, District Chief Ranger; telephone 623-580-5500; email jszympru@blm.gov; or Angie Meece, Acting Hassayampa Field Manager; telephone 623-580-5530; email ameece@blm.gov. Persons who use a telecommunications device for the deaf (TDD) may call the Federal Relay Service (FRS) at 1-800-877-8339 to contact the above individuals during normal business hours. FRS is available 24 hours a day, 7 days a week, to leave a message or question for the above individual. You will receive a reply during normal business hours.

SUPPLEMENTARY INFORMATION: The temporary closure affects certain public lands within the Vulture Mine Recreation Management Zone in Maricopa County, Arizona. This action is being taken to help ensure public safety during the Vulture Mine Off-Road Challenge official permitted OHV race event.

Main entry points to the area under temporary closure will be posted to notify the public of the temporary closure. These events are authorized on public land under a Special Recreation Permit (SRP), in conformance with the Wickenburg Travel Management Plan and the Bradshaw-Harquahala Record of Decision and Approved Resource Management Plan. Under the authority of Section 303(a) of the Federal Land Policy and Management Act of 1976 (43 U.S.C. 1733(a)), 43 CFR 8360.0-7, and 43 CFR 8364.1, the BLM will enforce the following temporary closures and restrictions within Vulture Mine Recreation Management Zone:

Description of Race Course Closed Area: Areas subject to this temporary closure include the race course and all public lands situated within the interior of the race course. The race course begins at the intersection of BLM routes 9092F and 9090C, traveling east along 9090C to 9090D, going south and then east along 9090D to 9090, continuing along 9090 north to 9093A, to 9274 traveling northeast to 9094, traveling southeast to 9195, south on 9195 to Vulture Mine Road (including the camping area to the west and east of the road, which varies in width from 268 feet to 70 feet between the signs indicating “No Vehicles Beyond this Point”), then north on 9195 to 9286, then traveling northeast to 9196, to 9192 and then to route 9095, traveling north and west to 9089C to 9089A north to 9092B west to 9092 to 9092F and south returning to the beginning intersection with 9090C.

Closure: The designated race course and all areas within the boundary of the race course as described above are temporarily closed to public entry during the temporary closures.

Exclusive Use: During the temporary closure, the affected area will be for the exclusive use of Vulture Mine Off-Road Challenge participants, registered spectators for the Vulture Mine Off-Road Challenge races, and other authorized users with a valid SRP for activities within the temporary closure area. For the temporary closure area, anyone without a SRP authorizing use within the temporary closure area during the temporary closure period is prohibited from using the area.

Exceptions: The temporary closures do not apply to Federal, State, and local officers and employees in the performance of their official duties; members of organized rescue or firefighting forces in the performance of their official duties; Vulture Mine Off-Road Challenge event officials and race participants; vendors with a valid BLM SRP; and registered event spectators.

Enforcement: Any person who violates the temporary closures may be tried before a United States magistrate and fined in accordance with 18 U.S.C. 3571, imprisoned no more than 12 months under 43 U.S.C. 1733(a) and 43 CFR 8360.0-7, or both. In accordance with 43 CFR 8365.1-7, State or local officials may also impose penalties for violations of Arizona law.

Effect of Closure: The entire area encompassed by the designated race course and all areas within the race course as described above and in the time period as described above are temporarily closed to all public use, including pedestrian use and vehicles, unless specifically excepted as described above.

Authority: 43 CFR 8364.1.

Angie Meece,
Acting Field Manager.

[FR Doc. 2019-25329 Filed 11-20-19; 8:45 am]

BILLING CODE 4310-32-P